DEPARTMENT OF VETERANS AFFAIRS

National Research Advisory Council; Notice of Meeting

The Department of Veterans Affairs (VA) gives notice under Public Law 92-463 (Federal Advisory Committee Act) that the National Research Advisory Council will hold a meeting on Monday, July 31, 2006, at VA's Office of Research and Development, 1722 Eye Street, NW., Washington, DC. The meeting will convene at 8:30 a.m. in Room 900, and conclude by 3 p.m. The meeting is open to the public.

The purpose of the Council is to provide external advice and review for VA's research mission. The agenda will include a review and discussion of the council's annual report for 2006 and a strategic overview of VA research.

Any member of the public wishing to attend the meeting or wishing further information should contact Dr. Jay Freedman, Designated Federal Officer, at (202) 254-0267. Oral comments from the public will not be accepted at the meeting. Written statements or comments should be transmitted electronically to jay.freedman@va.gov or mailed to Dr. Freedman at Department of Veterans Affairs, Office of Research and Development (12), 810 Vermont Avenue, NW., Washington, DC 20420.

Dated: June 20, 2006.
By Direction of the Secretary.
E. Philip Riggin,
Committee Management Officer.

[FR Doc. 06-5781 Filed 6-28-05; 8:45 am]

BILLING CODE 8320-01-M